NATIONAL AERONAUTICS AND SPACE ADMINISTRATION

14 CFR Parts 1260 and 1274

RIN 2700-AE12

Removal of Procedures for Delegation of Administration of Grants and Cooperative Agreements; Withdrawal

AGENCY: National Aeronautics and Space Administration

ACTION: Proposed rule; withdrawal.

SUMMARY: NASA hereby provides notice of the cancellation of a proposed rule without further action.

DATES: The proposed rule published in the Federal Register of November 14, 2013 (78 FR 68376) is withdrawn as of October 9, 2014.

FOR FURTHER INFORMATION CONTACT: Leigh Pomponio, NASA, Office of Procurement, Contract Management Division (Suite 2P77), 300 E Street SW., Washington DC, 30546-0001; email: leigh.pomponio@nasa.gov.

SUPPLEMENTARY INFORMATION:

A. Background

On November 14, 2013, NASA published a proposed rule (78 FR 68376) to remove internal procedures for delegation of grant administration from the regulation at 14 CFR 1260.70 and 1274.301. The action was published with an incorrect RIN number (2700-AE11). On December 26, 2013, a correction was published (78 FR 78305) to indicate that the correct RIN number is 2700-AE12. No public comments were received on the proposed rule. NASA will not proceed to finalize this action at this time. NASA is currently preparing guidance and regulations to implement OMB's Uniform Administrative Requirements, Cost Principles, and Audit Requirements for Federal Awards (78 FR 78589, Dec 26, 2013). Because implementation of OMB's guidance will necessitate major changes to NASA's Grant Handbook, NASA will make changes to internal delegation of administration procedures concurrent with or following the implementation of OMB's uniform requirements.

Cynthia Boots,
Alternate Federal Register Liaison.

[FR Doc. 2014-22693 Filed 10-8-14; 8:45 am]

BILLING CODE 7510-13-P